DEPARTMENT OF COMMERCE

National Oceanic and Atmospheric Administration

RIN: 0648-XE60

Fisheries of the South Atlantic; South Atlantic Fishery Management Council; Public Meetings

AGENCY: National Marine Fisheries Service (NMFS), National Oceanic and Atmospheric Administration (NOAA), Commerce.

ACTION: Notice of public meetings of the South Atlantic Fishery Management Limited Access Privilege (LAP) Program Exploratory Workgroup.

SUMMARY: The South Atlantic Fishery Management Council will hold meetings of its LAP Program Exploratory Workgroup in North Charleston, SC.

DATES: The meetings will take place January 15-16, 2008 and February 12-13, 2008. See SUPPLEMENTARY INFORMATION for specific dates and times.

ADDRESSES: The meetings will be held at the Hilton Garden Inn, Charleston Airport, 5265 International Boulevard, North Charleston, SC 29418; telephone: (877) 782-9444 or (843) 308-9330; fax: (843) 308-9331.

FOR FURTHER INFORMATION CONTACT: Kim Iverson, Public Information Officer, South Atlantic Fishery Management Council, 4055 Faber Place Drive, Suite 201, North Charleston, SC 29405; telephone: (843) 571-4366 or toll free (866) SAFMC-10; fax: (843) 769-4520; email: kim.iverson@safmc.net.

SUPPLEMENTARY INFORMATION: Members of the LAP Program Exploratory Workgroup will meet from 1 p.m. - 6 p.m. on January 15, 2008, and from 8:30 a.m. - 3 p.m. on January 16, 2008. The Workgroup will also meet from 1 p.m. - 6 p.m. on February 12, 2008 and from 8:30 a.m. until 3 p.m. on February 13, 2008.

These meetings are being convened to address issues relevant to the Council's consideration of implementing a Limited Access Privilege Program (LAP) for the commercial snapper grouper fishery in the South Atlantic region.

Items for discussion by the Workgroup January 15-16, 2008 include: (1) Analyses completed on initial allocation methodologies for several economically important species and (2) Preferred ownership caps for various species.

Items for discussion by the Workgroup February 12-13, 2008 include: (1) Sector allocation programs, cooperatives, ownership of LAPs by regional fishery associations and communities and 2) Finalization of the LAP Workgroup Working Document.

Special Accommodations

These meetings are physically accessible to people with disabilities. Requests for auxiliary aids should be directed to the Council office (see ADDRESSES) 3 days prior to the meetings.

Note: The times and sequence specified in this agenda are subject to change.

Dated: December 19, 2007.
Tracey L. Thompson,
Acting Director, Office of Sustainable Fisheries, National Marine Fisheries Service.

[FR Doc. E7-24918 Filed 12-21-07; 8:45 am]

BILLING CODE 3510-22-S